NATIONAL FOUNDATION ON THE ARTS AND THE HUMANITIES

Meetings of Humanities Panel

AGENCY: National Endowment for the Humanities.

ACTION: Notice of meetings.

SUMMARY: The National Endowment for the Humanities (NEH) will hold seventeen meetings of the Humanities Panel, a federal advisory committee, during August, 2014, as follows. The purpose of the meetings is for panel review, discussion, evaluation, and recommendation of applications for financial assistance under the National Foundation on the Arts and Humanities Act of 1965.

DATES: See SUPPLEMENTARY INFORMATION section for meeting dates.

ADDRESSES: The meetings will be held at Constitution Center, 400 7th Street SW., Washington, DC 20506. See SUPPLEMENTARY INFORMATION section for meeting room numbers.

FOR FURTHER INFORMATION CONTACT: Lisette Voyatzis, Committee Management Officer, 400 7th Street SW., Room 4060, Washington, DC 20506, or call (202) 606-8322. Hearing-impaired individuals are advised that information on this matter may be obtained by contacting the National Endowment for the Humanities' TDD terminal at (202) 606-8282.

SUPPLEMENTARY INFORMATION: Pursuant to section 10(a)(2) of the Federal Advisory Committee Act (5 U.S.C. App.), notice is hereby given of the following meetings:

1. Date: August 01, 2014

Time: 8:30 a.m. to 5 p.m.

Room: P002

This meeting will discuss applications on the subject of Religious Studies for the Fellowships for University Teachers grant program, submitted to the Division of Research Programs.

2. Date: August 04, 2014

Time: 8:30 a.m. to 5 p.m.

Room: P002

This meeting will discuss applications on the subjects of American History and Studies for the Fellowships for University Teachers grant program, submitted to the Division of Research Programs.

3. Date: August 04, 2014

Time: 8:30 a.m. to 5 p.m.

Room: P003

This meeting will discuss applications on the subjects of Romance Literature and Studies for the Fellowships for University Teachers grant program, submitted to the Division of Research Programs.

4. Date: August 05, 2014

Time: 8:30 a.m. to 5 p.m.

Room: P002

This meeting will discuss applications on the subjects of Anthropology and New World Archeology for the Fellowships for University Teachers grant program, submitted to the Division of Research Programs.

5. Date: August 05, 2014

Time: 8:30 a.m. to 5 p.m.

Room: P003

This meeting will discuss applications on the subject of American Literature for the Fellowships for University Teachers grant program, submitted to the Division of Research Programs.

6. Date: August 06, 2014

Time: 8:30 a.m. to 5 p.m.

Room: P002

This meeting will discuss applications on the subject of East Asian Studies for the Fellowships for University Teachers grant program, submitted to the Division of Research Programs.

7. Date: August 06, 2014

Time: 8:30 a.m. to 5 p.m.

Room: P003

This meeting will discuss applications on the subjects of South and Southeast Asian Studies for the Fellowships for University Teachers grant program, submitted to the Division of Research Programs.

8. Date: August 07, 2014

Time: 8:30 a.m. to 5 p.m.

Room: P002

This meeting will discuss applications on the subject of American Studies for the Fellowships for University Teachers grant program, submitted to the Division of Research Programs.

9. Date: August 07, 2014

Time: 8:30 a.m. to 5 p.m.

Room: P003

This meeting will discuss applications on the subject of American Studies for the Fellowships for University Teachers grant program, submitted to the Division of Research Programs.

10. Date: August 08, 2014

Time: 8:30 a.m. to 5 p.m.

Room: P002

This meeting will discuss applications on the subjects of German and Slavic Literature for the Fellowships for University Teachers grant program, submitted to the Division of Research Programs.

11. Date: August 11, 2014

Time: 8:30 a.m. to 5 p.m.

Room: P002

This meeting will discuss applications on the subject of Latin American Studies for the Fellowships for University Teachers grant program, submitted to the Division of Research Programs.

12. Date: August 11, 2014

Time: 8:30 a.m. to 5 p.m.

Room: P003

This meeting will discuss applications on the subject of Latin American Studies for the Fellowships for University Teachers grant program, submitted to the Division of Research Programs.

13. Date: August 12, 2014

Time: 8:30 a.m. to 5 p.m.

Room: P002

This meeting will discuss applications on the subjects of Medieval and Renaissance Studies for the Fellowships for University Teachers grant program, submitted to the Division of Research Programs.

14. Date: August 12, 2014

Time: 8:30 a.m. to 5 p.m.

Room: P003

This meeting will discuss applications on the subjects of African and Middle Eastern Studies for the Fellowships for University Teachers grant program, submitted to the Division of Research Programs.

15. Date: August 13, 2014

Time: 8:30 a.m. to 5 p.m.

Room: P002

This meeting will discuss applications on the subjects of Music and Dance for the Fellowships for University Teachers grant program, submitted to The Division of Research Programs.

16. Date: August 13, 2014

Time: 8:30 a.m. to 5 p.m.

Room: P003

This meeting will discuss applications on the subjects of Communications, Rhetoric, Media, and Linguistics for the Fellowships for University Teachers grant program, submitted to the Division of Research Programs.

17. Date: August 27, 2014

Time: 8:30 a.m. to 5 p.m.

Room: P002

This meeting will discuss applications for the Preservation and Access Education and Training grant program, submitted to the Division of Preservation and Access.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: July 15, 2014.
Lisette Voyatzis,
Committee Management Officer.

[FR Doc. 2014-17132 Filed 7-18-14; 8:45 am]

BILLING CODE 7536-01-P